DEPARTMENT OF HEALTH AND HUMAN SERVICES

Administration for Children and Families

Submission for OMB Review; Comment Request

Proposed Project:

Title: Evaluation of Pregnancy Prevention Approaches—Phase 1.

OMB No.: New collection.

Description: The Administration for Children and Families (ACF), U.S. Department of Health and Human Services (HHS), is proposing a data collection activity as part of the Evaluation of Pregnancy Prevention Approaches study. This study will assess the effectiveness of a range of programs designed to prevent or reduce sexual risk behavior and pregnancy among older adolescents. Knowing what types of programs are effective will inform programmatic decisions by policymakers and practitioners.

The proposed activity involves the collection of information from observations of program activities and interviews with a range of knowledgeable experts about various aspects of existing prevention programs and topics the experts view as important to address through evaluation. These data will be used to help inform decisions about the types of programs to be evaluated in the study.

Respondents: The respondents will be researchers and policy experts, program directors, program staff, or school administrators. Data will be collected from observations of program activities as well.

Annual Burden Estimates
Instrument | Annual number of respondents | Number of responses per respondent | Average burden hours per response | Estimated annual burden hours
Discussion Guide for Use with Researchers and Policy Experts | 100 | 1 | 1 | 100
Discussion Guide for Use with Program Directors | 50 | 1 | 1 | 50
Discussion Guide for Use with Program Staff | 100 | 1 | 1 | 100
Discussion Guide for Use with School Administrators | 50 | 1 | 1 | 50
Activity Observation Guide | 50 | 1 | .75 | 37.5

Estimated Total Annual Burden Hours: 337.5.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: September 15, 2008.
Brendan C. Kelly,
OPRE Reports Clearance Officer.

[FR Doc. E8-22151 Filed 9-23-08; 8:45 am]

BILLING CODE 4184-01-M